NUCLEAR WASTE TECHNICAL REVIEW BOARD

Formation of SES Performance Review Board

AGENCY: Nuclear Waste Technical Review Board.

ACTION: Notice.

SUMMARY: The Nuclear Waste Technical Review Board is announcing the members Performance Review Board.

DATES: Effectively immediately and until April 30, 2018.

FOR FURTHER INFORMATION CONTACT: For further information about the formation of the U.S. Nuclear Waste Technical Review Board's Performance Review Board, please contact Debra L. Dickson at 703.235.4480 or via email at dickson@nwtrb.gov, or via mail at 2300 Clarendon Blvd., Suite 1300, Arlington, VA 22201

SUPPLEMENTARY INFORMATION: Section 4314(c)(1) through (5) of Title 5 of the United States Code, requires each agency to establish, in accordance with regulations prescribed by the Office of Personnel Management, one or more SES Performance Review Boards. Section 4314(c)(4) of Title 5 requires that notice of appointment of board members be published in the Federal Register. The following executives have been designated as members of the Performance Review Board for the U.S. Nuclear Waste Technical Review Board:

Steven M. Becker, Board Member, U.S. Nuclear Waste Technical Review Board

Linda K. Nozick, Board Member, U.S. Nuclear Waste Technical Review Board

Paul J. Turinsky, Board Member, U.S. Nuclear Waste Technical Review Board

Katherine R. Herrera, Deputy General Manager, Defense Nuclear Facilities Safety Board

Timothy J. Dwyer, Member, Technical Staff, Defense Nuclear Facilities Safety Board

Richard E. Tontodonato, Deputy Technical Director, Defense Nuclear Facilities Safety Board

Authority: 42 U.S.C. 10262.

Dated: April 4, 2017.
Debra L. Dickson,
Director of Administration, U.S. Nuclear Waste Technical Review Board.

[FR Doc. 2017-06998 Filed 4-14-17; 8:45 am]

BILLING CODE P